DEPARTMENT OF ENERGY

Federal Energy Regulatory Commission

[Docket No. RP16-618-000]

Algonquin Gas Transmission, LLC; Notice Establishing Comment Period

On May 9, 2016, Federal Energy Regulatory Commission staff held a technical conference to discuss issues raised in the protests and comments regarding the February 19, 2016 filing made by Algonquin Gas Transmission, LLC in the above-captioned docket.¹ This notice establishes the comment periods for parties wishing to submit comments following the technical conference. All parties are invited to submit initial comments on or before Tuesday, May 31, 2016. Reply comments are due on or before Friday, June 10, 2016.

¹ Algonquin Gas Transmission, LLC, 154 FERC ¶ 61,269 (2016).

For more information, please contact Anna Fernandez at Anna.Fernandez@ferc.gov or (202) 502-6682 or Frank Sparber at Frank.Sparber@ferc.gov or (202) 502-8335.

Dated: May 12, 2016.
Kimberly D. Bose,
Secretary.

[FR Doc. 2016-11898 Filed 5-19-16; 8:45 am]

BILLING CODE 6717-01-P